DEPARTMENT OF JUSTICE

Parole Commission

Public Announcement; Pursuant to the Government In the Sunshine Act (Public Law 94-409) (5 U.S.C. 552b)

Date and Time: 5:30 p.m., Tuesday, August 2, 2005.

Place: U.S. Parole Commission, 5550 Friendship Boulevard, 4th Floor, Chevy Chase, Maryland 20815.

Status: Closed—Meeting.

Matters Considered: The following matter was considered during the closed Business Meeting: Procedure to be followed for review of one original jurisdiction case upon request of the Attorney General as provided in 18 U.S.C. 4215(c).

Agency Contact: Thomas W. Hutchison, Chief of Staff, United States Parole Commission, (301) 492-5990.

Dated: August 3, 2005.
Rockne Chickinell,
General Counsel.

[FR Doc. 05-15692 Filed 8-4-05; 10:32 am]

BILLING CODE 4410-31-M